Title 3—

The President

Proclamation 9572 of February 1, 2017

National African American History Month, 2017

By the President of the United States of America

A Proclamation

As we celebrate National African American History Month, we recognize the heritage and achievements of African Americans. The contributions African Americans have made and continue to make are an integral part of our society, and the history of African Americans exemplifies the resilience and innovative spirit that continue to make our Nation great.

For generations, African Americans have embodied the shared progress of our Nation. Through toil and struggle and with courageous actions that have broken barriers, they have made America a better place to live and work for everybody. Women like Katherine Johnson, a pioneer in space history whose work helped America win the Space Race, and Madam C.J. Walker, who became one of the most successful female entrepreneurs of her time, paved the way for both women and African Americans in their respective fields. Robert Smalls, a man born into slavery, founded our Nation's first free and compulsory public school system. Later in life, he served as a lawmaker in South Carolina's State legislature and the U.S. House of Representatives. The strength and determination of men and women like these remind us that our Nation brims with people whose contributions continue to make it stronger and better.

This year, African American History Month calls upon us to reflect on the crucial role of education in the history of African Americans. It reminds us of the importance of teaching and reflecting upon the many roles African Americans have played in building this Nation and driving it forward. This year's theme also calls upon us to rededicate ourselves to the work of ensuring that all children in this Nation have access to quality educational opportunities that give them the skills, experiences, relationships, and credentials that can empower them to follow in the footsteps of people like Katherine Johnson, Madam C.J. Walker, and Robert Smalls.

As we journey toward a stronger, more united Nation, let us use this commemoration of African American History Month to serve as a reminder of the need for meaningful dialogue and shared commitment to collective action that uplifts and empowers, as well as of the strength, ingenuity, and perseverance required of us in the years to come.

NOW, THEREFORE, I, DONALD J. TRUMP, President of the United States of America, by virtue of the authority vested in me by the Constitution and the laws of the United States, do hereby proclaim February 2017 as National African American History Month. I call upon public officials, educators, librarians, and all the people of the United States to observe this month with appropriate programs, ceremonies, and activities.

IN WITNESS WHEREOF, I have hereunto set my hand this first day of February, in the year of our Lord two thousand seventeen, and of the Independence of the United States of America the two hundred and forty-first.

[FR Doc. 2017-02559

Filed 2-3-17; 11:15 am]

Billing code 3295-F7-P